DEPARTMENT OF AGRICULTURE

Forest Service

Proposed New Recreation Fee Site

AGENCY: Forest Service, Agriculture (USDA).

ACTION: Notice.

SUMMARY: The San Bernardino National Forest is proposing to establish a new recreation fee site. Recreation fee revenues collected at the new recreation fee site would be used for operation, maintenance, and improvement of the site. An analysis of nearby recreation fee sites with similar amenities shows the recreation fee that would be charged at the new recreation fee site is reasonable and typical of similar recreation fee sites in the area.

DATES: If approved, the new recreation fee would be implemented no earlier than six months following the publication of this notice in the Federal Register.

ADDRESSES: San Bernardino National Forest, 602 South Tippecanoe Avenue, San Bernardino, California 92408.

FOR FURTHER INFORMATION CONTACT: Jonar Rodrigo, Recreation Fee Program Manager—Southern Zone, 909-382-2622 or jonar.rodrigo@usda.gov.

SUPPLEMENTARY INFORMATION: The Federal Lands Recreation Enhancement Act (16 U.S.C. 6803(b)) requires the Forest Service to publish a six-month advance notice in the Federal Register of establishment of new recreation fee sites. In accordance with Forest Service Handbook 2309.13, chapter 30, the Forest Service will publish the proposed new recreation fee site in local newspapers and other local publications for public comment. Most of the new recreation fee revenues would be spent where they are collected to enhance the visitor experience at the new recreation fee site.

A standard amenity recreation fee of $5 per day per vehicle would be charged at Big Pine Flat Off-Highway Vehicle Staging Area. The Adventure Pass and the America the Beautiful—the National Parks and Federal Recreational Lands Pass would be honored at this standard amenity recreation fee site.

Expenditures from recreation fee revenues collected at the new recreation fee site would enhance recreation opportunities, improve customer service, and address maintenance needs. Once public involvement is complete, the new fee will be reviewed by a Recreation Resource Advisory Committee prior to a final decision and implementation.

Dated: November 17, 2023.
Jacqueline Emanuel,
Associate Deputy Chief, National Forest System.

[FR Doc. 2023-25874 Filed 11-21-23; 8:45 am]

BILLING CODE 3411-15-P